DEPARTMENT OF HEALTH AND HUMAN SERVICES

National Institutes of Health

National Institute on Drug Abuse; Amended Notice of Partially Closed Meeting

Notice is hereby given of a change in the meeting of the National Advisory Council on Drug Abuse, September 9, 2025, 10:30 a.m. to 5:00 p.m., National Institutes of Health, Neuroscience Center, Conference Room 1145/1155, 6001 Executive Boulevard Rockville, MD 20852 which was published in the Federal Register on August 15, 2025, FR Doc 2025-15505, 90 FR 39410.

This meeting notice is being amended to change the open session's virtual access location. The open session of the meeting can be accessed from the NIH Videocast at the following link: https://videocast.nih.gov/. The meeting is partially closed to the public.

Dated: August 19, 2025.
David W. Freeman,
Supervisory Program Analyst, Office of Federal Advisory Committee Policy.

[FR Doc. 2025-16058 Filed 8-21-25; 8:45 am]

BILLING CODE 4140-01-P